FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 15, 2017.

A. Federal Reserve Bank of Chicago (Colette A. Fried, Assistant Vice President) 230 South LaSalle Street, Chicago, Illinois 60690-1414:

1. The Martin Grandchildren's Trust dated 5.24.17, with William C. Martin and Sally A. Martin as co-trustees; the William C. Martin 2016 Grantor Retained Annuity Trust dated 1.27.16, with William C. Martin as trustee; the William C. Martin 2017 Grantor Retained Annuity Trust dated 5.31.17, with William C. Martin as trustee; the William C. Martin GRAT Remainder Trust fbo William S. Martin dated 1.27.16, with William C. Martin as trustee; the William C. Martin GRAT Remainder Trust fbo Michael C. Martin dated 1.27.16, with William C. Martin as trustee; Keweenaw, L.L.C., with William C. Martin as manager; Sally A. Martin, individually; William S. Martin, individually; and Michael C. Martin, individually, all of Ann Arbor, Michigan; to join William C. Martin as members of the Martin Family Control Group and retain voting shares of Arbor Bancorp, Inc., and thereby indirectly retain voting shares of Bank of Ann Arbor, both of Ann Arbor, Michigan.

Board of Governors of the Federal Reserve System, October 24, 2017.
Ann Misback,
Secretary of the Board.

[FR Doc. 2017-23429 Filed 10-26-17; 8:45 am]

BILLING CODE P